DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before December 25, 2003.

ADDRESSES: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on November 20, 2003.
R. Ryan Posten,
Exemptions Program Officer, Office of Hazardous Materials Exemptions and Approvals.

New Exemptions
No. | No. | Applicant | Regulation(s) Affected | Nature of Exemption Thereof
13302-N |  | FIBA Technologies, Inc., Westboro, MA | 49 CFR 180.211 | To authorize the rethreading of the outside neck of DOT-3AX and DOT-3AAX cylinders for continued use on motor vehicles. (mode 1)
13314-N |  | Sunoco Inc., Philadelphia, PA | 49 CFR 177.834(h) | To authorize the discharge of Division 6.1 liquids from a DOT 51 portable tanks without removing the tanks from the vehicle on which it is transported. (mode 1)
13319-N |  | Dow AgroSciences L.L.C., Indianapolis, IN | 49 CFR 173.301 (f)(1) | To authorize the transportation in commerce of sulfuryl fluoride, a Division 2.3, Hazardous Zone D liquefied gas, in DOT specification and certain non-DOT specification cylinders that are not fitted with a pressure relief device. (modes 1, 2, 3)
13320-N |  | Bowgen Fuel Systems, Inc., Springfield, MO | 49 CFR 173.302, 173.302a | To authorize the manufacture, mark, sale and use of certain non-DOT specification fiber reinforced plastic hoop wrapped cylinders horizontally mounted and secured to a motor vehicle for use in transporting compressed natural gas. (mode 1)
13321-N |  | Quest Diagnostics, Inc., Collegeville, PA | 49 CFR 173.28(b)(3) | To authorize the transportation in commerce of infectious substances, Division 6.2, in reused specification UN 5L3 textile bags. (mode 1, 4)
13322-N |  | UXB International Inc., Ashburn, VA | 49 CFR 172.320, 173.54(a), 173.56(b), 173.58 | To authorize the transportation in commerce for disposal purposes of certain waste hazardous materials, in non-bulk packaging, by private vehicle for short distances in a specially designed bomb-disposal trailer as the outer packaging. (mode 1)
13324-N |  | Kidde Aerospace, Wilson, NC | 49 CFR 173.301 (f)(3) | To authorize the transportation in commerce of certain fire extinguishers with a lower relief pressure than presently authorized. (modes 1, 3, 4, 5)
13325-N |  | Air Products and Chemicals, Inc., Allenton, PA | 49 CFR 173.301 (f)(3), 180.250(c)(4) | To authorize the transportation in commerce of certain hazardous materials in certain DOT specification seamless steel cylinders equipped with CG-4 style pressure relief devices with rupture disk at 3360 psig. (modes 1, 2, 3)
13326-N |  | Precision Technik, Inc., Atlanta, GA | 49 CFR 173, 202, 173.201, 173.203, 173.30(f)(1), 173.302, 173.304 | To authorize the manufacture, marking, sale and use of a non-DOT specification, full opening head salvage cylinder for overpacking damaged or leaking cylinders. (mode 1)
13327-N |  | Hawk Corp., Ardmore, OK | 49 CFR 172.101, B15 | To authorize the manufacture, mark, sale and use of non-DOT specification cargo tank motor vehicles constructed from glass fiber reinforced plastics for use in transporting certain hazardous materials. (mode 1)
13328-N |  | USDA Forest Service Missoula, MT | 49 CFR 173.203(c) | To authorize the transportation in commerce of non-specification packaging for use in transporting Class 3 hazardous materials. (mode 1)
13330-N |  | Oilphase Division, Schlumberger Eval. & Production Dyce, Aberdeen, Scotland, UK | 49 CFR 173.201(c), 173.202(c), 173.203(c), 173.301(d), 173.304(a) & (d), 175.3 | To authorize the transportation in commerce of certain flammable gases in a non-DOT specification cylinder used for oil well sampling. (modes 1, 2, 3, 4)

[FR Doc. 03-29458 Filed 11-25-03; 8:45 am]

BILLING CODE 4910-60-M